DEPARTMENT OF TRANSPORTATION

Pipeline and Hazardous Materials Safety Administration

Hazardous Materials: Improving the Safety of Railroad Tank Car Transportation of Hazardous Materials

AGENCY: Pipeline and Hazardous Materials Safety Administration (PHMSA), DOT.

ACTION: Notice of public meeting.

SUMMARY: As part of PHMSA's and the Federal Railroad Administration's (FRA) comprehensive review of design and operational factors that affect the safety of railroad tank car transportation of hazardous materials, the two agencies invite interested persons to participate in a public meeting addressing potential improvements to hazardous materials tank cars in order to improve the overall safety of hazardous materials shipments via railroad tank car.

DATES: Public meeting: March 30, 2007, starting at 9 a.m.

ADDRESSES: Public meeting: The meeting will be held at The Westin O'Hare, 6100 River Road, Rosemont, Illinois 60018. For information on the facilities or to request special accommodations at the meeting, please contact Ms. Michele M. Sampson by telephone or e-mail as soon as possible.

Written Comments: Written comments may be submitted identified by DOT DMS Docket Number FRA-2006-25169 by any of the following methods:

• Web site: http://dms.dot.gov. Follow the instructions for submitted comments on the DOT electronic docket site.

• Fax: 1-202-493-2251.

• Mail: Docket Management Facility; U.S. Department of Transportation, 400 Seventh Street, SW., Nassif Building, Room PL-401, Washington, DC 20590.

• Hand Delivery: Room PL-401 on the plaza level of the Nassif Building, 400 Seventh Street, SW., Washington, DC, between 9 a.m. and 5 p.m., Monday through Friday, except Federal holidays.

FOR FURTHER INFORMATION CONTACT: Michele M. Sampson (Michele.Sampson@dot.gov), Railroad Safety Specialist, Federal Railroad Administration, 1120 Vermont Ave., NW., Washington, DC 20590 (202-493-6475) or Lucinda Henriksen (Lucinda.Henriksen@dot.gov), Trial Attorney, Office of Chief Counsel, Federal Railroad Administration, 1120 Vermont Ave., NW., Washington, DC 20590 (202-493-1345).

SUPPLEMENTARY INFORMATION: The Federal hazardous materials transportation law (Federal hazmat law, 49 U.S.C. 5101 et seq., as amended by section 1711 of the Homeland Security Act of 2002, Public Law 107-296 and Title VII of the 2005 Safe, Accountable, Flexible and Efficient Transportation Equity Act—A Legacy for Users (SAFETEA-LU)) authorizes the Secretary of the Department of Transportation (DOT) to “prescribe regulations for the safe transportation, including security, of hazardous material in intrastate, interstate, and foreign commerce.” The Secretary has delegated this authority to PHMSA.

The Secretary of Transportation also has authority over all areas of railroad safety (49 U.S.C. 20101 et seq.), and has delegated this authority to FRA. FRA has issued a comprehensive set of Federal regulations governing the safety of all facets of freight and passenger railroad operations (49 CFR parts 200-244). FRA inspects railroads and shippers for compliance with both FRA and PHMSA regulations. FRA also conducts research and development to enhance railroad safety.

On May 24, 2006, PHMSA and FRA announced that the two operating administrations of the DOT were initiating a comprehensive review of design and operational factors that affect the safety of railroad tank car transportation of hazardous materials. 71 FR 30019. In order to facilitate public involvement in this review, FRA established a public docket (docket no. FRA-2006-25169) to provide interested parties with a central location to both send and review relevant information concerning the safety of railroad tank car transportation of hazardous materials. See 71 FR 37974 (July 3, 2006). In addition, PHMSA and FRA held public meetings on May 31-June 1, 2006 and on December 14, 2006 (see 71 FR 30019 and 71 FR 67015 (Nov. 17, 2006)). The primary purpose of the first meeting was to surface and prioritize issues relating to the safe and secure transportation of hazardous materials by railroad tank car. The primary purpose of the second meeting was to solicit input and comments in response to specific questions posed by the agencies. In addition, at the December meeting, FRA announced the agency's commitment to develop an enhanced tank car standard by 2008.

This document announces that PHMSA and FRA have scheduled a third public meeting as part of DOT's comprehensive review. The meeting will be held on the date specified in the DATES section of this document and at the location specified in the ADDRESSES section of this document. At this meeting, FRA intends to share its preliminary research results regarding tank car survivability and provide an update on the agency's progress towards developing an enhanced tank car standard. FRA also invites interested parties to participate in the meeting by presenting any relevant comments, information, or data, regarding potential enhancements or modifications to hazardous materials tank cars in order to improve the overall safety and security of hazardous material shipments via railroad tank car. As with the previous public meetings, although DOT's review includes both tank car design and operational factors that affect railroad tank car safety, this public meeting is intended to focus on the issue of potential improvements to hazardous materials tank cars themselves. In order to facilitate discussion, FRA will post the materials to be presented at this meeting in the docket established for this proceeding (Docket Number FRA-2006-25169) by March 23, 2007. We encourage interested parties to review the posted materials prior to the meeting.

PHMSA and FRA encourage all interested persons to participate in this meeting. The agencies ask that commenters provide data in the most detail possible, including costs of design, installation, and maintenance.

The agencies also invite interested parties who are unable to attend the public meeting, or who otherwise desire to submit written comments or data responsive to the questions raised above, to submit any relevant information, data, or comments to the DOT Docket Management System Docket Number FRA-2006-25169. Comments may be submitted by any method noted in the ADDRESSES section above.

Issued in Washington, DC on March 9, 2007, under authority delegated in 49 CFR part 106.
Robert Richard,
Acting Associate Administrator for Hazardous Materials Safety.

[FR Doc. E7-4686 Filed 3-14-07; 8:45 am]

BILLING CODE 4910-60-P